DEPARTMENT OF COMMERCE

Bureau of Industry and Security

[Docket No. 0812221638-9166-02]

Request for Public Comments on the Effects of Export Controls on Decisions To Use or Not Use U.S.-Origin Parts and Components in Commercial Products and the Effects of Such Decisions

AGENCY: Bureau of Industry and Security, Department of Commerce.

ACTION: Notice of Inquiry; extension of comment period.

SUMMARY: This notice extends the comment period for a notice of inquiry in which BIS requested comments on the effects of export controls on decisions to use or not use U.S.-origin parts and components in commercial products and the effects of such decisions.

DATES: Comments must be received by April 20, 2009.

ADDRESSES: Comments may be submitted via e-mail to publiccomments@bis.doc.gov. Please Refer to “Parts and Components Inquiry” in the subject line. Comments may also be sent to Parts and Components Study, Office of Technology Evaluation, Room 2705, U.S. Department of Commerce, 14th Street and Pennsylvania Avenue, NW., Washington, DC 20230.

FOR FURTHER INFORMATION CONTACT: Jennifer Watts, Office of Technology Evaluation, Bureau of Industry and Security, telephone: 202-482-8343; fax: 202-482-5361; e-mail jwatts@bis.doc.gov.

SUPPLEMENTARY INFORMATION: The Bureau of Industry and Security published a notice of inquiry requesting comments on the effects of export controls on decisions to use or not use U.S.-origin parts and components in commercial products and the effects of such decisions (74 FR 263, January 5, 2009). That notice set a due date of February 19, 2009 for receipt of public comments by BIS. BIS is now extending the comment period to April 20, 2009 to allow the public more time to comment.

Dated: February 13, 2009.
Matthew S. Borman,
Acting Assistant Secretary for Export Administration.

[FR Doc. E9-3525 Filed 2-18-09; 8:45 am]

BILLING CODE 3501-33-P